DEPARTMENT OF AGRICULTURE

Submission for OMB Review; Comment Request

May 17, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, 725—17th Street NW., Washington, DC 20502. Commenters are encouraged to submit their comments to OMB via email to: OIRA_Submission@omb.eop.gov or fax (202) 395-5806 and to Departmental Clearance Office, USDA, OCIO, Mail Stop 7602, Washington, DC 20250-7602. Comments regarding these information collections are best assured of having their full effect if received by June 24, 2013. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: 7 CFR 1940-G, Environmental Program.

OMB Control Number: 0575-0094.

Summary of Collection: The National Environmental Policy Act (NEPA) requires Federal agencies prior to the approval of proposed actions to consider the potential environmental impacts of these actions. Consequently, for the agencies to comply with NEPA, it is necessary to have information on the types of environmental resources on site or in the vicinity that might impact the proposed action. Also, information is required on the nature of the project selected by the applicant.

Need and Use of the Information: The agency will collect environmental data using form RD 1940-20, Request for Environmental Information. Having all activities and environmental information on the proposed project site will enable the Agency official to determine the magnitude of the potential environmental impacts and whether the project is controversial for environmental reasons. The agency's failure to collect the environmental information would result in a violation of NEPA. Thus, the agency would have no basis to support a decision regarding the need for an environmental impact statement.

Description of Respondents: Farms; Individuals or households; Business or other for-profit; Not-for-profit institutions; State, Local or Tribal Government.

Number of Respondents: 1,684.

Frequency of Responses: Reporting: On occasion.

Total Burden Hours: 12,470.

Charlene Parker,
Departmental Information Collection Clearance Officer.

[FR Doc. 2013-12244 Filed 5-22-13; 8:45 am]

BILLING CODE 3410-XV-P